DEPARTMENT OF THE INTERIOR

National Park Service

Notice of Inventory Completion for Native American Human Remains and Associated Funerary Objects in the Possession of the Fort Collins Museum, Fort Collins, CO

AGENCY: National Park Service, Interior.

ACTION: Notice.

Notice is hereby given in accordance with provisions of the Native American Graves Protection and Repatriation Act (NAGPRA), 43CFR 10.9, of the completion of an inventory of human remains and associated funerary objects in the possession of the Fort Collins Museum, Fort Collins, CO.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains and associated funerary object was made by the Fort Collins Museum professional staff in consultation with Dr. Ann Magennis, Professor of Anthropology at Colorado State University, and representatives of the Arapahoe Tribe of the Wind River Reservation, Wyoming; Cheyenne-Arapaho Tribes of Oklahoma; Kiowa Indian Tribe of Oklahoma; Northern Cheyenne Tribe of the Northern Cheyenne Indian Reservation, Montana; Oglala Sioux Tribe of the Pine Ridge Reservation, South Dakota; Rosebud Sioux Tribe of the Rosebud Indian Reservation, South Dakota; Southern Ute Indian Tribe of the Southern Ute Reservation, Colorado; Standing Rock Sioux Tribe of North & South Dakota; Ute Indian Tribe of the Uintah & Ouray Reservation, Utah; and Ute Mountain Tribe of the Ute Mountain Reservation, Colorado, New Mexico, and Utah. The following tribes were invited to participate in consultations but were unable to attend: Apache Tribe of Oklahoma; Cheyenne River Sioux Tribe, South Dakota; Comanche Nation, Oklahoma; Fort Sill Apache Tribe of Oklahoma; and Pawnee Nation of Oklahoma. Museum officials also consulted with representatives of the White Mesa Ute Tribe, Utah, a nonfederally recognized Indian group.

In 1941, human remains representing one individual were donated to the Fort Collins Museum by F.C. Parker. The human remains consist of a partial skull. Donor records indicate that an “arrowhead was found embedded in eye cavity.” The arrowhead is not in the possession of the Fort Collins Museum. F.C. Parker was the manager of the Fort Collins Opera Hall/Stage in the late 1890s-early 1900s. During the 1930s and 1940s, an “Indian relics” group was instrumental in establishing the Pioneer Museum, which later became the Fort Collins Museum. These human remains were likely acquired in fairly close proximity to present-day Fort Collins. It is believed that the human remains date to sometime after the mid-17th century when bows and arrows were introduced in the area.

In the 1940s, human remains representing one individual were excavated by Clyde L. Stanley near the town of Keota, Larimer County, CO. Mr. Stanley donated the human remains to the Fort Collins Museum in 1957. Donation records identify the human remains as an “Indian boy about 20 years.” Dr. Magennis identified the remains as a 20-50 year old female Native American. No known individual was identified. No associated funerary objects are present. Archeological evidence indicates significant Native American occupation in the Keota area during the historic period. These human remains are believed to date to the historic period based on their good physical condition and their excavation from near a site occupied during the historic period.

Prior to 1951, human remains representing one individual were excavated at the “old Jack Currie farm,” Larimer County, CO. Ansel E. Anderson donated the human remains to the Fort Collins Museum in 1951. The circumstances under which Mr. Anderson acquired the skull are not clear. A museum tag associated with the human remains reads “Indian skull of Araphahoe squaw.” Physical examination of the remains reveal cranial and dental characteristics consistent with Native American males. No known individual was identified. The one associated funerary object present is a perforated, white shell.

In 1972, human remains representing one individual were excavated by G.W. Ravenscroft in a streambed in Larimer County, CO. Tests done by Colorado State University in 1974 indicate that the remains are Native American and predate the arrival of Euro-Americans in the area. Ravencroft donated the human remains to the Fort Collins Museum in 1976. No associated funerary objects are present. A bone awl originally recovered with the human remains was apparently misplaced prior to 1976.

All of the human remains and the associated funerary object described above are believed to date before 1884. Evidence of traditional territories, oral traditions, archeological context, ethnohistoric documents, cranial measurements, and dental characteristics of the human remains support a cultural affiliation between these human remains and the associated funerary object and the Arapahoe Tribe of the Wind River Reservation, Wyoming; Cheyenne-Arapaho Tribes of Oklahoma; Kiowa Indian Tribe of Oklahoma; Northern Cheyenne Tribe of the Northern Cheyenne Indian Reservation, Montana; Oglala Sioux Tribe of the Pine Ridge Reservation, South Dakota; Rosebud Sioux Tribe of the Rosebud Indian Reservation, South Dakota; Southern Ute Indian Tribe of the Southern Ute Reservation, Colorado; Standing Rock Sioux Tribe of North & South Dakota; Ute Indian Tribe of the Uintah & Ouray Reservation, Utah; and Ute Mountain Tribe of the Ute Mountain Reservation, Colorado, New Mexico, & Utah.

On April 8-9, 2002, representatives of the above-mentioned Indian tribes were consulted regarding the cultural affiliation and disposition of these human remains and associated funerary object. The authorized representatives of nine of the above-mentioned Indian tribes submitted a joint claim of cultural affiliation on April 9, 2002. The authorized representative of the Ute Indian Tribe of the Uintah & Ouray Reservation, Utah declined to sign the April 9, 2002 joint claim of cultural affiliation. The Authorized representatives of the Comanche Nation, Oklahoma and Pawnee Nation of Oklahoma subsequently added their signatures to the joint claim. The joint claim of cultural affiliation identified the Cheyenne-Arapaho Tribes of Oklahoma as lead Indian tribe.

Based on the above-mentioned information, officials of the Fort Collins Museum have determined that, pursuant to 43 CFR 10.2 (d)(1), the human remains listed above represent the physical remains of four individuals of Native American ancestry. Officials of the Fort Collins Museum also have determined that, pursuant to 43 CFR 10.2 (d)(2), the one object listed above was reasonably believed to have been placed with or near individual human remains at the time of death or later as part of the death rite or ceremony. Lastly, pursuant to 43 CFR 10.2(e), officials of the Fort Collins Museum have determined that there is a relationship of shared group identity that can be reasonably traced between these Native American human remains and the Arapahoe Tribe of the Wind River Reservation, Wyoming; Cheyenne-Arapaho Tribes of Oklahoma; Comanche Nation, Oklahoma; Kiowa Indian Tribe of Oklahoma; Northern Cheyenne Tribe of the Northern Cheyenne Indian Reservation, Montana; Oglala Sioux Tribe of the Pine Ridge Reservation, Pawnee Nation of Oklahoma; South Dakota; Rosebud Sioux Tribe of the Rosebud Indian Reservation, South Dakota; Southern Ute Indian Tribe of the Southern Ute Reservation, Colorado; Standing Rock Sioux Tribe of North & South Dakota; and Ute Mountain Tribe of the Ute Mountain Reservation, Colorado, New Mexico, & Utah.

This notice has been sent to officials of the Apache Tribe of Oklahoma; Arapahoe Tribe of the Wind River Reservation, Wyoming; Assiniboine and Sioux Tribes of the Fort Peck Indian Reservation, Montana; Cheyenne and Arapaho Tribes of Oklahoma; Cheyenne River Sioux Tribe, South Dakota; Comanche Nation, Oklahoma; Crow Creek Sioux Tribe of the Crow Creek Reservation, South Dakota; Crow Tribe of Montana; Flandreau Santee Sioux Tribe of South Dakota; Fort Sill Apache Tribe of Oklahoma; Jicarilla Apache Tribe of the Jicarilla Apache Indian Reservation, New Mexico; Kiowa Indian Tribe of Oklahoma; Lower Brule Sioux tribe of the Lower Brule Reservation, South Dakota; Mescalero Apache Tribe, New Mexico; Northern Cheyenne Tribe of the Northern Cheyenne Indian Reservation, Montana; Oglala Sioux Tribe of the Pine Ridge Reservation, South Dakota; Pawnee Nation of Oklahoma; Rosebud Sioux Tribe of the Rosebud Indian Reservation, South Dakota; Shoshone-Bannock Tribes of the Fort Hall Reservation, Idaho; Shoshone Tribe of the Wind River Reservation, Wyoming; Southern Ute Indian Tribe of the Southern Ute Reservation, Colorado; Standing Rock Sioux Tribe of North & South Dakota; Three Affiliated Tribes of the Fort Berthold Reservation, North Dakota; Ute Indian Tribe of the Uintah & Ouray Reservation, Utah; Ute Mountain Tribe of the Ute Mountain Reservation, Colorado, New Mexico, & Utah; White Mesa Ute Tribe, Utah; Wichita and Affiliated Tribes (Wichita, Keechi, Waco & Tawakonie), Oklahoma; and Yankton Sioux Tribe of South Dakota. Representatives of any other Indian tribe that believes itself to be culturally affiliated with these human remains should contact Dr. Brenda Martin, NAGPRA Coordinator, Fort Collins Museum, 200 Mathews Street, Fort Collins, CO 80524, telephone (970) 416-2702, before October 15, 2002. Repatriation of the human remains to the Cheyenne and Arapaho Tribes of Oklahoma may begin after that date if no additional claimants come forward.

Dated: July 17, 2002.
C. Timothy McKeown,
Acting Manager, National NAGPRA Program.

[FR Doc. 02-23127 Filed 9-11-02; 8:45 am]

BILLING CODE 4310-70-S